DEPARTMENT OF ENERGY

Federal Energy Regulatory Commission

[Docket Nos. CP98-150-000 and CP98-151-000]

Millennium Pipeline Company, LP, Columbia Gas Transmission Corporation; Notice of Site Visit

May 25, 2001.

From Monday, June 4 through Wednesday June 6, 2001, the Federal Energy Regulatory Commission staff will conduct a site visit of an alternative route along and within the Consolidated Edison of New York, Inc. (ConEd) electric transmission and the Taconic State Parkway rights-of-way. This alternative is referred to as the ConEd Offset/Taconic Alternative and is between approximate mileposts 391.2 and 404.1 of the proposed Millennium Pipeline Project.

We will meet at the following locations on these dates and times:

• Jane E. Lytle Memorial Arboretum parking area (go through the Hudson National Golf Course on Lounsbury Road, Croton-on-Hudson, New York) on June 4, 2001, at 12 noon; and

• Teatown Lake Reservation Nature Center, 1600 Spring Valley Road, Ossining, New York, on June 5, 2001, at 9 am and will continue along the ConEd Offset/Taconic Alternative.

For further information call the Office of External Affairs, at (202) 208-0004.

David P. Boergers,
Secretary.

[FR Doc. 01-13728 Filed 5-31-01; 8:45 am]

BILLING CODE 6717-01-M